DEPARTMENT OF HEALTH AND HUMAN SERVICES

National Institutes of Health

Eunice Kennedy Shriver National Institute of Child Health & Human Development; Notice of Meeting

Pursuant to section 10(a) of the Federal Advisory Committee Act, as amended (5 U.S.C. App.), notice is hereby given of a meeting of the Scientific Management Review Board.

The meeting will be open to the public, with attendance limited to space available. Registration is required since space is limited. Please visit the conference Web site for information on meeting logistics and to register for the meeting http://www.circlesolutions.com/ncs/ncsac/index.cfm. Individuals who plan to attend and need special assistance, such as sign language interpretation or other reasonable accommodations, should notify the Contact Person listed below in advance of the meeting.

Name of Committee: National Children's Study Advisory Committee.

Date: April 27, 2010.

Time: 9 a.m.to 12 p.m.

Agenda: The agenda will include an update on the current status of the Study, a legislative update, and a discussion pertaining to the National Children's Study Communications Plan.

Place: Fishers Lane Conference Center, 5635 Fishers Lane, Rockville, MD 20852.

Contact Person: Jessica E. DiBari, MHS, Executive Secretary, National Children's Study, Eunice Kennedy Shriver National Institute of Child Health and Human Development, NIH, 6100 Executive Blvd., Room 3A01, Bethesda, MD 20892, (301) 451-2135.

Any interested person may file written comments with the committee by forwarding the statement to the Contact Person listed on this notice. The statement should include the name, address, telephone number and when applicable, the business or professional affiliation of the interested person. For additional information about the Federal Advisory Committee meeting, please contact Circle Solutions at ncs@circlesolutions.com.

(Catalogue of Federal Domestic Assistance Program Nos. 93.864, Population Research; 93.865, Research for Mothers and Children; 93.929, Center for Medical Rehabilitation Research; 93.209, Contraception and Infertility Loan Repayment Program, National Institutes of Health, HHS)

Dated: March 24, 2010.
Jennifer Spaeth,
Director, Office of Federal Advisory Committee Policy.

[FR Doc. 2010-7187 Filed 3-30-10; 8:45 am]

BILLING CODE 4140-01-P